ENVIRONMENTAL PROTECTION AGENCY

[FRL-9807-9; Docket ID No. EPA-HQ-ORD-2013-0189]

An Assessment of Potential Mining Impacts on Salmon Ecosystems of Bristol Bay, Alaska

AGENCY: Environmental Protection Agency (EPA).

ACTION: Notice of public comment period.

SUMMARY: The U.S. Environmental Protection Agency (EPA) is announcing a public comment period for the revised draft document titled, “An Assessment of Potential Mining Impacts on Salmon Ecosystems of Bristol Bay, Alaska” (EPA-910-R-12-004Ba-c). The document was revised by the EPA after reviewing comments received from the public between May 18 and July 23, 2012 and input from the peer review panel held in August 2012. The EPA conducted this assessment to determine the significance of Bristol Bay's ecological resources and the potential impacts of large-scale mining on these resources.

DATES: The public comment period will begin with the publication of this notice and will end Friday, May 31, 2013. Technical comments should be in writing and must be received by EPA by May 31, 2013.

ADDRESSES: The revised draft “An Assessment of Potential Mining Impacts on Salmon Ecosystems of Bristol Bay, Alaska” is available primarily via the Internet on the EPA Region 10 Bristol Bay Web site at www.epa.gov/bristolbay as well as on the National Center for Environmental Assessment's Web site under the Recent Additions and the Data and Publications menus at www.epa.gov/ncea. A limited number of CD copies are available from the Information Management Team, NCEA; telephone: 703-347-8561; facsimile: 703-347-8691. If you are requesting a CD copy, please provide your name, your mailing address, and the document title, “An Assessment of Potential Mining Impacts on Salmon Ecosystems of Bristol Bay, Alaska.”

Comments on the report may be submitted electronically via www.regulations.gov, by email, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-9744; or email: Docket_ORD@epa.gov.

For technical information concerning the report, contact Judy Smith; telephone: 503-326-6994; facsimile: 503-326-3399; or email: r10bristolbay@epa.gov.

SUPPLEMENTARY INFORMATION:

I. Information About the Project/Document

The U.S. Environmental Protection Agency (EPA) conducted this assessment to provide a characterization of the biological and mineral resources of the Bristol Bay watershed, increase understanding of the potential impacts of large-scale mining on the region's fish resources, and inform future governmental decisions.

A previous draft was released for public comment on May 18, 2012 (77 FR 31353, May 25, 2012). Peer review panel members were announced June 5, 2012 (77 FR 33213, June 5, 2012), and the external peer review meeting was announced July 6, 2012 (77 FR 40037, July 6, 2012). The external peer review meeting was held in Anchorage, AK, August 7-9, 2012. This revised draft was completed by the agency to address public and peer review comments provided on the May 2012 draft.

EPA is releasing this revised draft assessment for the purposes of public comment. This draft assessment is not final as described in EPA's information quality guidelines, and it does not represent and should not be construed to represent Agency policy or views.

EPA is seeking comments from the public on all aspects of the report, including the scientific and technical information presented in the report, the realistic mining scenario used, the data and information used to inform assumptions about mining activities and the evaluations of risk to the fishery, and the potential mitigation measures considered (and effectiveness of those measures). EPA is also specifically seeking any additional data or scientific or technical information about Bristol Bay resources or large-scale mining that should be considered in our evaluation. EPA will consider any public comments submitted in accordance with this notice when revising the document.

II. How To Submit Technical Comments to the Docket at www.regulations.gov

Submit your comments, identified by Docket ID No. EPA-HQ-ORD-2013-0189, by one of the following methods:

• www.regulations.gov: Follow the on-line instructions for submitting comments.

• Email: Docket_ORD@epa.gov. Include the docket number in the subject line of the message.

• Fax: 202-566-9744.

• Mail: Office of Environmental Information (OEI) Docket (Mail Code: 28221T), Docket ID No. EPA-HQ-ORD-2013-0189, U.S. Environmental Protection Agency, 1200 Pennsylvania Ave. NW., Washington, DC 20460. The phone number is 202-566-1752. If you provide comments by mail, please submit one unbound original with pages numbered consecutively, and three copies of the comments. For attachments, provide an index, number pages consecutively with the comments, and submit an unbound original and three copies.

• Hand Delivery: The OEI Docket is located in the EPA Headquarters Docket Center, Room 3334, EPA West Building, 1301 Constitution Ave. NW., Washington, DC. The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

Instructions: Direct your comments to Docket ID No. EPA-HQ-ORD-2013-0189. Please ensure that your comments are submitted within the specified comment period. Comments received after the closing date will be marked “late,” and may only be considered if time permits. It is EPA's policy to include all comments it receives in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, EPA may not be able to consider your comments. Electronic files should avoid the use of special characters and any form of encryption and be free of any defects or viruses. For additional information about EPA's public docket, visit the EPA Docket Center homepage at www.epa.gov/epahome/dockets.htm.

Docket: Documents in the docket are listed in the www.regulations.gov index. Although listed in the index, some information is not publicly available, e.g., CBI or other information whose disclosure is restricted by statute. Certain other material, such as copyrighted material, will be publicly available only in hard copy. Publicly available docket materials are available either electronically at www.regulations.gov or in hard copy at the OEI Docket in the EPA Headquarters Docket Center.

Dated: April 10, 2013.
James K. Gallahan,
Acting Deputy Director, National Center for Environmental Assessment.

[FR Doc. 2013-10157 Filed 4-29-13; 8:45 am]

BILLING CODE 6560-50-P